DEPARTMENT OF LABOR

Employment and Training Administration

[NAFTA—04155]

Alstom Power, Inc., Heat Recovery Steam Generators, Kings Mountain, NC; Notice of Termination of Investigation

Pursuant to Title V of the North American Free Trade Agreement Implementation Act (Public Law 103-182) concerning transitional adjustment assistance, hereinafter called (NAFTA-TAA), and in accordance with section 250(a), Subchapter D, Chapter 2, Title II, of the Trade Act of 1974, as amended (19 U.S.C. 2273), an investigation was initiated on September 14, 2000 in response to a petition filed on behalf of workers at Alstom Power, Incorporated, Heat Recovery Steam Generators, Kings Mountain, North Carolina.

The petitioner requested that the petition for NAFTA-TAA be withdrawn. Consequently, further investigation in this case would serve no purposes, and the investigation has been terminated.

Signed at Washington, DC, this 6th day of October, 2000.
Linda G. Poole,
Certifying Officer, Division of Trade Adjustment Assistance.

[FR Doc. 00-26723 Filed 10-17-00; 8:45 am]

BILLING CODE 4510-30-M